DEPARTMENT OF THE INTERIOR

National Park Service

[NPS-WASO-NAGPRA-NPS0040062; PPWOCRADN0-PCU00RP14.R50000]

Notice of Inventory Completion: California Department of Transportation, Oakland, CA

AGENCY: National Park Service, Interior.

ACTION: Notice.

SUMMARY: In accordance with the Native American Graves Protection and Repatriation Act (NAGPRA), the California Department of Transportation (Caltrans) has completed an inventory of human remains and associated funerary objects and has determined that there is a cultural affiliation between the human remains and associated funerary objects and Indian Tribes or Native Hawaiian organizations in this notice.

DATES: Repatriation of the human remains and associated funerary objects in this notice may occur on or after June 9, 2025.

ADDRESSES: Lindsay Busse PQS Principal Investigator, Prehistoric Archaeology, California Department of Transportation, District 4, 111 Grand Avenue, Oakland, CA 94612, telephone (510) 847-1977, email lindsay.busse@dot.ca.gov and Althea Asaro, PQS Principal Investigator, Prehistoric Archaeology, California Department of Transportation, District 4, 111 Grand Avenue, Oakland, CA 94612, telephone (510) 847-2178, email althea.asaro@dot.ca.gov.

SUPPLEMENTARY INFORMATION: This notice is published as part of the National Park Service's administrative responsibilities under NAGPRA. The determinations in this notice are the sole responsibility of Caltrans, and additional information on the determinations in this notice, including the results of consultation, can be found in its inventory or related records. The National Park Service is not responsible for the determinations in this notice.

Abstract of Information Available

Human remains representing, at least, 16 individuals have been identified. The 12,235 associated funerary objects are catalog entries representing lithics, paleobotanicals, soil samples, faunal remains, shell, shell and beads, light fraction samples, ground stone, baked clay, and post-contact artifacts. Of the 12,235 associated funerary objects, 329 catalog numbers are missing and Caltrans and Sonoma State University (SSU) continue to look for them. These collections are from Napa County along Highway 29 and 121 and are housed at SSU. The collections are the result of Caltrans project-delivery related excavations at the following sites between 1974 and 2019: CA-NAP-15/H (Acc. 78-19, 79-14, 74-06, 79-28, & 77-15); CA-NAP-518 (Acc. 78-6); CA-NAP-39 (Acc. 2019-001 & 99-06). There are no known/documented potentially hazardous substances used to treat any of the cultural items.

Cultural Affiliation

Based on the information available and the results of consultation, cultural affiliation is clearly identified by the information available about the human remains and associated funerary objects described in this notice.

Determinations

Caltrans has determined that:

• The human remains described in this notice represent the physical remains of 16 individuals of Native American ancestry.

• The 12,235 objects described in this notice are reasonably believed to have been placed intentionally with or near individual human remains at the time of death or later as part of the death rite or ceremony.

• There is a connection between associated funerary objects described in this notice and the Yocha Dehe Wintun Nation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 9, 2025. If competing requests for repatriation are received, Caltrans must determine the most appropriate requestor prior to repatriation. Requests for joint repatriation of the human remains and associated funerary objects are considered a single request and not competing requests. Caltrans is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08043 Filed 5-7-25; 8:45 am]

BILLING CODE 4312-52-P